NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before April 13, 2007. (Note that the new time period for requesting copies has changed from 45 to 30 days after publication). Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

SCHEDULES PENDING (Note that the new time period for requesting copies has changed from 45 to 30 days after publication):

1. Department of Agriculture, Food and Nutrition Service (N1-462-04-4, 26 items, 26 temporary items). Electronic data, documentation, and paper and electronic outputs associated with the Electronic Commodity Ordering System database, a web based food ordering system used by State and local governments, the Federal Government, and private industry. Also included are records related to the web site that pertains to these records.

2. Department of Agriculture, Forest Service (N1-95-06-1, 4 items, 2 temporary items). Inputs and outputs relating to observational data on insect and damage specimens from forest and wood products. Proposed for permanent retention are the master files and system documentation.

3. Department of Agriculture, Forest Service (N1-95-06-2, 4 items, 2 temporary items). Inputs and outputs relating to inventories and basic information compiled on the natural resources found within National Forest lands of the Pacific Southwest Region. Proposed for permanent retention are the master files and system documentation.

4. Department of Agriculture, Forest Service (N1-95-06-3, 4 items, 4 items, 2 temporary items). Inputs and outputs relating to an electronic system used to develop an interagency system for wildfire preparedness analysis, planning, and budgeting. Proposed for permanent retention are the master files and system documentation.

5. Department of Agriculture, Forest Service (N1-95-06-4, 4 items, 4 temporary items). Inputs, outputs, master files, and documentation relating to an electronic database containing reviews of scientific literature about fire effects on plants and animals.

6. Department of the Army, Agency-wide (N1-AU-06-10, 9 items, 9 temporary items). Records relating to the general administration of Non-Appropriated Fund (NAF) Instrumentalities. Includes insurance claim forms, loss recovery investigations and reports, property accountability forms, applications for scholarships and awards, building utility service agreements, vehicle registrations, and minor construction project drawings. This schedule authorizes the agency to apply the proposed disposition instructions to any recordkeeping medium.

7. Department of the Army, Agency-wide (N1-AU-07-6, 2 items, 2 temporary items). Records used to request, manage, and implement Long-Haul and Land Mobile Communication systems. Included are system requests, service orders, status of acquisitions messages, equipment coordination, system design, installation plans, and general funding information. This schedule authorizes the agency to apply the proposed disposition instructions to any recordkeeping medium.

8. Department of Defense, Defense Logistics Agency (N1-361-05-2, 5 items, 5 temporary items). Public Key Infrastructure administrative and transaction records. Included are records relating to digital signatures, certification validation responses, certificates, agreements, plans, studies, analyses, reports, guidance, testing and validation, procedures and training documentation.

9. Department of Energy, Bonneville Power Administration (N1-305-03-4, 31 items, 31 temporary items). Records related to engineering, design and construction support; information resources; and transmission marketing and sales. Included are designs, structural analyses, program direction, policies, guidelines, standards, procedures, resource proposals, data backups, software, agreements, contracts, electronic postings, correspondence, filings, notices, load sheets, load logs, accounts, requests, forecasts, documentation and voice recordings.

10. Department of Energy, Bonneville Power Administration (N1-305-05-3, 2 items, 2 temporary items). Records related to financial operations of Trust Funds and Fish and Wildlife Credits. Included are investment policies, financial statements, spreadsheets, reports, budgets, correspondence and similar materials. This schedule authorizes the agency to apply the proposed disposition instructions to any recordkeeping medium.

11. Department of Energy, Bonneville Power Administration (N1-305-05-4, 3 items, 3 temporary items). Records related to the sales of substations and equipment. Included are settlement agreements, reports, correspondence, memoranda and similar records. This schedule authorizes the agency to apply the proposed disposition instructions to any recordkeeping medium.

12. Department of Energy, Bonneville Power Administration (N1-305-05-7, 2 items, 2 temporary items). Records related to audiometric evaluations and ergonomic assessments. Included are calibrations, analyses, findings and recommendations. This schedule authorizes the agency to apply the proposed disposition instructions to any recordkeeping medium.

13. Department of Justice, Drug Enforcement Administration (N1-170-06-2, 18 items, 18 temporary items). Records documenting the chain of custody for investigative non-drug and drug evidence.

14. Department of Justice, Office of Justice Programs (N1-423-07-1, 2 items, 2 temporary items). Records accumulated by the Office for Victims of Crime created while planning observances of the National Crime Victims' Rights Week. Included are files relating to award determination and nomination. This schedule authorizes the agency to apply the proposed disposition instructions to any recordkeeping medium.

15. Department of State, Bureau of Diplomatic Security (N1-59-07-1, 27 items, 27 temporary items). Records documenting the formulation, coordination, implementation, evaluation, and administration of physical security and protective services training and professional development courses. Records include curriculum development and review material, training course delivery and evaluation material, student participation material, administrative files documenting day-to-day housekeeping activities, program accreditation material, training program policies and procedures material, and course reporting material.

16. Department of the Treasury, Bureau of the Public Debt (N1-53-06-5, 81 items, 78 temporary items). Records relating to retail securities services, including accounting, administrative matters, investor payment, tax, legacy fees, savings bonds, tax reporting, systems, primary records, customer service support, and investor education. Proposed for permanent retention are consumer research reports and promotional materials.

17. Department of the Treasury, Internal Revenue Service (N1-58-07-2, 4 items, 4 temporary items). Inputs, master files, outputs and documentation of the Employee Protection System.

18. Department of the Treasury, Office of the Comptroller of the Currency (N1-101-06-3, 3 items, 3 temporary items). Inputs, master files, and system documentation for the money laundering risk system. This schedule authorizes the agency to apply disposition instructions to these records regardless of recordkeeping medium, except for the master files.

19. Department of the Treasury, Office of the Comptroller of the Currency (N1-101-07-1, 6 items, 6 temporary items). Master files and system documentation for the credit card, home equity, and fast data modules of the supervisory information system. This schedule authorizes the agency to apply disposition instructions to these records regardless of recordkeeping medium, except for the master files.

20. Department of the Treasury, United States Mint (N1-104-06-1, 4 items, 2 temporary items). Chief Counsel litigation case files and legal subject files. Proposed for permanent retention are significant litigation case files and legal opinion and memoranda files.

21. Environmental Protection Agency, Agency-wide (N1-412-06-31, 3 items, 1 temporary item). Records consist of the electronic software program. Proposed for permanent retention are the electronic data and supporting documentation of the Underground Injection Control Databases.

22. Environmental Protection Agency, Agency-wide (N1-412-07-7, 2 items, 1 temporary item). This schedule authorizes the agency to apply the existing disposition instructions to record series regardless of recordkeeping medium. The records include enforcement action, oil site-specific, case files that result in no legal action or involve routine legal action. Paper recordkeeping copies of these files were previously approved for disposal. Paper recordkeeping copies of enforcement action, oil site-specific, case files for landmark cases were previously approved as permanent.

23. Environmental Protection Agency, Agency-wide (N1-412-07-8, 1 item, 1 temporary item). This schedule authorizes the agency to apply the existing disposition instructions to record series regardless of recordkeeping medium. The records consist of documentation of removal activities conducted by EPA and other entities in response to an oil spill. Paper recordkeeping copies of these files were previously approved for disposal.

24. Federal Mediation and Conciliation Service (N1-280-07-1, 3 items, 3 temporary items). This schedule reduces the retention period for recordkeeping copies of grants administration case files and grants contract dispute review files, and increases the retention period for recordkeeping copies of grant review board final reports. These records were previously approved for disposal.

25. Federal Mediation and Conciliation Service (N1-280-07-3, 2 items, 1 temporary item). This schedule changes the retention period to permanent for recordkeeping copies of original training and course instructional materials, which were previously approved for disposal, and increases the retention period for copies of employee training records.

26. Small Business Administration, Administrative Information Branch (N1-309-05-22, 4 items, 4 temporary items). Master files, outputs, and system documentation for the Electronic Lending System, which lenders use to obtain loan guarantees.

Dated: March 6, 2007.
Michael J. Kurtz,
Assistant Archivist for Records Services Washington, DC.

[FR Doc. E7-4631 Filed 3-13-07; 8:45 am]

BILLING CODE 7515-01-P